DEPARTMENT OF LABOR

Mine Safety and Health Administration

Petitions for Modification

The following parties have filed petitions to modify the application of existing safety standards under section 101(c) of the Federal Mine Safety and Health Act of 1977.

1. Spartan Mining Company

[Docket No. M-2005-026-C]

Spartan Mining Company, HC78 Box 1800, Madison, West Virginia 25130 has filed a petition to modify the application of 30 CFR 75.1002 (Installation of electric equipment and conductors; permissibility) to its Scotch Pine Mine (MSHA I.D. No. 46-09095) and Midway Mine (MSHA I.D. No. 46-09045) located in Boone County, West Virginia. The petitioner proposes to use a 2400-volt power center to power a continuous miner with high-voltage trailing cables inby the last open crosscut and within 150 feet of pillar workings. The petitioner has outlined in this petition specific procedures that will be followed when the proposed alternative method is implemented. The petitioner asserts that the proposed alternative method would provide at least the same measure of protection as the existing standard.

2. Aracoma Coal Company

[Docket No. M-2005-027-C]

Aracoma Coal Company, P.O. Box 1120, Holden, West Virginia 25625 has filed a petition to modify the application of 30 CFR 75.1909(b)(6) (Nonpermissible diesel-powered equipment; design and performance requirements) to its Alma #1 Mine (MSHA I.D. No. 46-08801) located in Logan County, West Virginia. The petitioner proposes to operate the one (1) six-wheel Getman Roadbuilder grader, model RDG-1504A, serial number 6782, as it was originally designed without front brakes. The petitioner states that the Getman Roadbuilder has dual brake systems on the four (4) rear wheels and is designed to prevent loss of braking due to a single component failure. The petitioner will provide training for the grader operators to lower the moldboard for additional stopping capability in emergency situations; to recognize the appropriate speeds to use on different roadway conditions; and to limit the maximum speed of the grader to 10 miles per hour. The petitioner asserts that the proposed alternative method will not result in a diminution of safety to the miners.

3. Genesis, Inc.

[Docket No. M-2005-028-C]

Genesis, Inc., P.O. Box 552, Somerset, Pennsylvania 15501-0552 has filed a petition to modify the application of 30 CFR 75.1100-2(e)(2) (Quantity and location of firefighting equipment) to its Genesis #17 Mine (MSHA I.D. No. 36-08980) located in Somerset County, Pennsylvania. The petitioner requests a modification of the existing standard to permit the use of an alternative method of compliance for firefighting equipment at temporary electrical installations. The petitioner proposes to use two (2) fire extinguishers or one fire extinguisher of twice the required capacity at all temporary electrical installations in lieu of one fire extinguisher and 240 pounds of rock dust. The petitioner asserts that the proposed alternative method would provide at least the same measure of protection as the existing standard.

4. Parkwood Resources, Inc.

[Docket No. M-2005-029-C]

Parkwood Resources, Inc., P.O. Box 552, Somerset, Pennsylvania 15501-0552 has filed a petition to modify the application of 30 CFR 75.1100-2(e)(2) (Quantity and location of firefighting equipment) to its Cherry Tree Mine (MSHA I.D. No. 36-09224) located in Clearfield County, Pennsylvania. The petitioner requests a modification of the existing standard to permit the use of an alternative method of compliance for firefighting equipment at temporary electrical installations. The petitioner proposes to use two (2) fire extinguishers or one fire extinguisher of twice the required capacity at all temporary electrical installations in lieu of one fire extinguisher and 240 pounds of rock dust. The petitioner asserts that the proposed alternative method would provide at least the same measure of protection as the existing standard.

5. FMC Corporation

[Docket No. M-2005-001-M]

FMC Corporation, Box 872, Green River, Wyoming 82935 has filed a petition to modify the application of 30 CFR 57.22305 (Approved equipment (III mines)) to its FMC Trona Mine (MSHA I.D. No. 48-00152) located in Sweetwater County, Wyoming. The petitioner requests a modification of the existing standard to permit the use of a portable Leica DISTO laser distance meter inby the last open bread or face areas of the mine. The petitioner requests the use of an alternative method so that the equipment in areas covered by 30 CFR 57.22305 can be used safely. The petitioner states that examinations for methane in the mine atmosphere will be conducted prior to utilizing the laser distance meter and at a minimum every ten minutes during use; employees will complete a training form and will be instructed in the requirements for using the equipment; and that the equipment will not be operated in 1.0% or more methane. The petitioner asserts that the safety of the miners will not be reduced because ergonomic safety will be increased since the surveys will be better able to determine mining distances to the face that cannot safely be measured due to the roof being unbolted.

Request for Comments

Persons interested in these petitions are encouraged to submit comments via Federal eRulemaking Portal: http://www.regulations.gov; e-mail: zzMSHA-Comments@dol.gov; Fax: (202) 693-9441; or Regular Mail/Hand Delivery/Courier: Mine Safety and Health Administration, Office of Standards, Regulations, and Variances, 1100 Wilson Boulevard, Room 2350, Arlington, Virginia 22209. All comments must be postmarked or received in that office on or before May 31, 2005. Copies of these petitions are available for inspection at that address.

Dated in Arlington, Virginia, this 22nd day of April 2005.
Rebecca J. Smith,
Acting Director, Office of Standards, Regulations, and Variances.

[FR Doc. 05-8573 Filed 4-28-05; 8:45 am]

BILLING CODE 4510-43-P